DEPARTMENT OF TRANSPORTATION

National Highway Traffic Safety Administration

[Docket No. NHTSA 2002-13811; Notice 1]

Ford Motor Company; Receipt of Application for Decision of Inconsequential Noncompliance

Ford Motor Company (Ford) has determined that certain 2003 Model Year Econoline Cargo Vans are equipped with convex passenger-side mirrors that fail to meet the requirements of Federal Motor Vehicle Safety Standard (FMVSS) No. 111 “Rearview mirrors.”

Pursuant to 49 U.S.C. 30118(d) and 30120(h), Ford has applied for a determination that this noncompliance is inconsequential to motor vehicle safety and has filed an appropriate report pursuant to 49 CFR part 573, “Defect and Noncompliance Reports.”

This notice of receipt of an application is published under 49 U.S.C. 30118 and 30120 and does not represent any agency decision or other exercise of judgment concerning the merits of the application.

Ford manufactured 2,330 vans with convex passenger-side mirrors. Paragraph S6.1 of the standard requires that multipurpose passenger vehicles, trucks, and buses with a gross vehicle weight rating of 4,536 kg or less have either mirrors that conform to paragraph S5 or outside mirrors of unit magnification. Paragraph S5, in essence, applies to vehicles with an inside rearview mirror. Because these vehicles do not have a rear window, they have no inside rearview mirror and, thus, are required by S6.1(b) to have passenger-side mirrors of unit magnification.

Ford believes that this noncompliance is inconsequential to motor vehicle safety, and therefore creates no unreasonable risk to highway safety for the following reasons:

I. The Original Agency Purpose for Restricting the Use of Convex Mirrors is No Longer Necessary

Twenty years ago, following several years of research into the safety benefit of convex mirrors, NHTSA amended FMVSS 111 to allow the use of convex passenger side mirrors on passenger cars, light trucks, and multipurpose passenger vehicles, to supplement an inside rearview mirror that does not meet the field of view requirements of S5.1.1. As stated in the agency's final rule comments, previous to the amendment there had been concerns regarding the effect of convex mirrors on depth perception because of drivers' unfamiliarity, at the time, with convex mirrors. Currently, with 20 years of experience with convex mirrors, drivers are very familiar with their function and are now very accustomed to the benefits of convex mirrors.

II. Studies Show a Safety Benefit Using Convex Mirrors

Ford Econoline Study

Ford conducted field of view studies with respect to flat and convex passenger side mirrors on affected Econoline Cargo Vans. Not surprisingly, these studies demonstrate the enhanced traffic detection provided with convex passenger side mirrors. The field of view maps [included with Ford's petition] show that convex passenger side mirrors provide a 19.5-degree field of view vs. a 5-degree field of view with flat mirrors. Passenger side mirror image comparisons of convex and planar mirrors [included with Ford's petition] illustrate the enhanced traffic detection provided by convex mirrors. With a convex passenger side mirror the driver will be able to detect a vehicle in the next lane even if the vehicle is as far forward as the passenger side window, while the driver of a vehicle with a flat passenger side mirror, as required by S6, cannot see the vehicle until it is almost 20 feet behind the vehicle.

NHTSA Study

In September 1985, NHTSA published report DOT HS 806 948, “Field Test Evaluation of Rearview Mirror Systems for Commercial Vehicles,” regarding a two-year evaluation of experimental rearview mirror systems which showed that commercial vehicles with a convex passenger side mirror had a 17.6% reduction in accidents over vehicles with OEM flat passenger side mirrors. The report concluded that the analysis strongly supported the installation of single convex passenger side mirrors on commercial vehicles.

III. No Evidence of Negative Safety Consequences With Convex Mirrors

Ford is not aware of any field or owner reports or allegations of accidents or injuries related to this condition. [Ford believes] that the increased rearward visibility using a convex mirror and the extensive use of convex mirrors in the field can result in a reduction of lane change and right hand turn accidents.

IV. Other Countries Safely Permit Convex Mirrors

As the agency is aware, convex passenger side rearview mirrors are allowed in Canada, Europe, Australia, and other countries including those vehicles without an interior rear view mirror. Below is a summary of relevant regulations in these countries:

Canadian Federal Motor Vehicle Safety Standard 111

Section (6)—An outside rear view mirror referred to in paragraph (7)(b) or subsection (26) or (27) that is installed on the side of the vehicle opposite the driver's may be convex if its reflective surface area is equal to or greater than the reflective surface area that a unit magnification mirror must have in accordance with that paragraph or subsection.

Subsection (26)(b) states that multipurpose passenger vehicles, trucks and buses, with a GVWR of 4,536 kg or less, other than school buses, shall have on each side of the vehicle, an outside rearview mirror which has not less than 125 cm of reflective surface area located so as to provide the driver with a view to the rear along both sides of the vehicle.

EEC Directive 71/127

Annex I Section 3.1 permits either flat or spherically convex rearview mirrors.

Annex II Section 2.1.2 requires Class II exterior mirrors if an interior rearview mirror does not provide any rearward vision.

Additionally, Section 2.1.4 requires a supplemental wide angle mirror if the Class II exterior rearview mirror is not convex.

Australian Design Rule 14/02

Section 14.2.3.2.2—Passenger side external rearview mirrors may be flat or convex.

Section 14.2.3.2.3—For convex mirrors, the reflective surface area is equal to or greater than that of a flat mirror required to meet the field of view requirements set out in S14.2.3.1.

Interested persons are invited to submit written data, views, and arguments on the application described above. Comments should refer to the docket and notice number and be submitted to: U.S. Department of Transportation, Docket Management, Room PL-401, 400 Seventh Street, SW., Washington, DC, 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: May 30, 2003.

(49 U.S.C. 301118, 301120; delegations of authority at 49 CFR 1.50 and 501.8)

Issued on: April 17, 2003.
Stephen R. Kratzke,
Associate Administrator for Rulemaking.

[FR Doc. 03-10052 Filed 4-29-03; 8:45 am]

BILLING CODE 4910-59-P